DEPARTMENT OF TRANSPORTATION

Federal Transit Administration

Transfer of Federally Assisted Facility

AGENCY: Federal Transit Administration (FTA), United States Department of Transportation (USDOT).

ACTION: Notice of Intent (NOI) to transfer Federally assisted facility.

SUMMARY: Section 5334(h) of the Federal Transit Laws, as codified, 49 U.S.C. 5301, et. seq., permits the Administrator of the Federal Transit Administration (FTA) to authorize a recipient of FTA funds to transfer land or a facility to a public body for any public purpose with no further obligation to the Federal Government if, among other things, no Federal agency is interested in acquiring the asset for Federal use. Accordingly, FTA is issuing this Notice to advise Federal agencies that the North Carolina Department of Transportation (NCDOT) intends to transfer the facility located at 274 Winkler's Creek Road, Boone, NC 28607, on behalf of a subrecipient, AppalCART, to Watauga County, NC. AppalCART, the transportation authority serving all of Watauga County, used the location as an administrative and maintenance facility from 1981-2013 (32 yrs). AppalCART can no longer use the property because construction on a new administrative and maintenance facility was completed in August 2013.

Watauga County will be utilizing the property as a County maintenance department. Watauga County is charged with maintaining all county vehicles and facilities, including snow removal. This transfer would provide a number of benefits to the county and its residents. The site is more centrally located than the current location of the County maintenance department; the new location would allow quicker and more efficient dispatch of maintenance crews for snow removal and other services to County facilities. The interior space at this property will allow maintenance equipment and vehicles to be sheltered and maintained indoors, saving them from the wear currently experienced due to the harsh climate of the area. Also, the site and facilities have adequate space for other county usage, such as storage for other departments and a possible impound lot for the Sheriff's Office. The transfer will allow the property to be put to good use. The County has agreed to ensure that this use will be maintained for no less than five (5) years.

DATES: Effective Date: Any Federal agency interested in acquiring the facility must notify the FTA Region IV office of its interest no later than 30 days from the date of publication of the Federal Register notice.

ADDRESSES: Interested parties should notify the Regional Office by writing to Yvette G. Taylor, Regional Administrator, Federal Transit Administration, 230 Peachtree NW., Suite 1400, Atlanta, GA 30303.

FOR FURTHER INFORMATION CONTACT: Micah M. Miller, Regional Counsel, (404) 865-5474.

SUPPLEMENTARY INFORMATION:

Background

49 U.S.C. 5334(h) provides guidance on the transfer of capital assets. Specifically, if a recipient of FTA assistance decides an asset acquired under this chapter at least in part with that assistance is no longer needed for the purpose for which it was acquired, the Secretary of Transportation may authorize the recipient to transfer the asset to a local governmental authority to be used for a public purpose with no further obligation to the Government. 49 U.S.C. 5334(h)(1).

Determinations

The Secretary may authorize a transfer for a public purpose other than mass transportation only if the Secretary decides:

(A) The asset will remain in public use for at least 5 years after the date the asset is transferred;

(B) There is no purpose eligible for assistance under this chapter for which the asset should be used;

(C) The overall benefit of allowing the transfer is greater than the interest of the Government in liquidation and return of the financial interest of the Government in the asset, after considering fair market value and other factors; and

(D) Through an appropriate screening or survey process, that there is no interest in acquiring the asset for Government use if the asset is a facility or land.

Federal Interest in Acquiring Land or Facility

This document implements the requirements of 49 U.S.C. 5334(h)(1)(D) of the Federal Transit Laws. Accordingly, FTA hereby provides notice of the availability of the facility further described below. Any Federal agency interested in acquiring the affected facility should promptly notify the FTA. If no Federal agency is interested in acquiring the existing facility, FTA will make certain that the other requirements specified in 49 U.S.C. 5334(h)(1)(A) through (C) are met before permitting the asset to be transferred.

Additional Description of Land or Facility

The subject property is identified as parcel identification number 2910-23-0273-000 by the Watauga County Tax Supervisor's office. The subject property contains 1.549-acres improved with a one-story metal & brick garage/office/warehouse building and a one-story brick equipment vehicle wash building, both in fair condition. Site improvements include asphalt pavement, chain-link fencing, and landscaping. The subject was formerly used as an office and maintenance facility for AppalCART, a public transportation system serving Watauga County. AppalCART moved to a new facility in late 2013 and the subject facilities are currently vacant. Public utilities include water, sewer, electric, telephone and cable.

Yvette G. Taylor,
Regional Administrator, Federal Transit Administration, Atlanta, GA.

[FR Doc. 2015-07288 Filed 3-30-15; 8:45 am]

BILLING CODE P